DEPARTMENT OF COMMERCE

[Docket No.: 080603727-8737-01]

Privacy Act System of Records

AGENCY: Department of Commerce.

ACTION: Notice of a new Privacy Act System of Records: COMMERCE/NOAA-19, Permits and Registrations for United States Federally Regulated Fisheries.

SUMMARY: The Department of Commerce (Commerce) publishes this notice to announce the effective date of a Privacy Act System of Records notice entitled COMMERCE/NOAA-19, Permits and Registrations for United States Federally Regulated Fisheries.

DATES: The system of records becomes effective on June 11, 2008.

ADDRESSES: For a copy of the system of records please mail requests to Ted Hawes, NOAA's National Marine Fisheries Service, Northeast Regional Office, One Blackburn Drive, Gloucester, MA 01930.

FOR FURTHER INFORMATION CONTACT: Ted Hawes, NOAA's National Marine Fisheries Service, Northeast Regional Office, One Blackburn Drive, Gloucester, MA 01930, 978-281-9296.

SUPPLEMENTARY INFORMATION: On April 17, 2008, the Department of Commerce published and requested comments on a proposed Privacy Act System of Records notice entitled COMMERCE/NOAA-19, Permits and Registrations for United States Federally Regulated Fisheries. No comments were received in response to the request for comments. By this notice, the Department is adopting the proposed system as final without changes effective June 11, 2008.

Dated: June 5, 2008.
Brenda Dolan,
U.S. Department of Commerce, Freedom of Information/Privacy Act Officer.

[FR Doc. E8-13051 Filed 6-10-08; 8:45 am]

BILLING CODE 3510-22-P